NUCLEAR REGULATORY COMMISSION

[NRC-2013-0181]

Placement of the Georgia Agreement State Program on Probation

AGENCY: Nuclear Regulatory Commission.

ACTION: Notice of the Georgia Agreement State Program being placed on probation.

SUMMARY: The U.S. Nuclear Regulatory Commission (NRC) is announcing the placement of the Georgia Agreement State Program (Georgia Program) for the regulation of certain Atomic Energy Act materials on probation and a further increase in the NRC oversight of the Georgia Program, including overseeing implementation of a “Program Improvement Plan” developed by the staff of the Georgia Program. Once the Georgia Program has met the commitments made in the “Program Improvement Plan,” and has demonstrated significant and sustainable improvements, the probationary status could be lifted. There will be further announcements of such action.

ADDRESSES: Please refer to Docket ID NRC-2013-0181] when contacting the NRC about the availability of information regarding this document. You may access publicly-available information related to this action by the following methods:

• Federal Rulemaking Web site: Go to http://www.regulations.gov and search for Docket ID NRC-2013-0181]. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced

• NRC's PDR: You may examine and purchase copies of public documents at the NRC's PDR, Room O1-F21, One White Flint North, 11555 Rockville Pike, Rockville, Maryland 20852.

FOR FURTHER INFORMATION CONTACT: Lisa Dimmick, Office of Federal and State Materials and Environmental Management Programs, U.S. Nuclear Regulatory Commission, Washington, DC 20555, telephone: 301-415-0694, email: Lisa.Dimmick@nrc.gov.

SUPPLEMENTARY INFORMATION:

Under Section 274 of the Atomic Energy Act, as amended, the Commission retains the authority and the responsibility to ensure that Agreement State programs continue to provide adequate protection of public health and safety, and to be compatible with the NRC's program with respect to the regulation of the materials and uses authorized under the agreement. Agreement States are States that have assumed regulatory authority from the NRC over the possession and use of certain radioactive materials.

Section 274j. of the Atomic Energy Act of 1954, as amended, requires that the NRC periodically review each Agreement State to ensure each State's regulatory programs are adequate and compatible. The NRC evaluates Agreement State radiation control programs, using performance indicators, to ensure that public health and safety is being adequately protected. The periodic review process for Agreement State programs is called the Integrated Materials Performance Evaluation Program (IMPEP).

The Management Review Board (MRB), in a public meeting, makes the overall assessment of the Agreement State program. Information considered by the MRB includes the proposed final IMPEP report, which presents suggested performance indicator ratings and recommendations prepared by the IMPEP review team, and information provided by the State at the MRB meeting. For most IMPEP reviews, no action other than issuance of the final IMPEP report is needed. For those infrequent reviews where additional action is needed, the MRB may consider Monitoring, Heightened Oversight, and recommendations for Probation, Suspension, or Termination. The most significant actions, Probation, Suspension, or Termination, require Commission approval. In 2008, the MRB placed the Georgia Program under a condition of Monitoring due to the results of the 2008 Georgia Program IMPEP.

After the most recent review, the MRB found the overall Georgia Program compatible with the NRC's program and adequate to protect public health and safety, but it needs improvement. The MRB found the Georgia Program performance unsatisfactory for two performance indicators: Technical Quality of Inspections, and Technical Quality of Incident and Allegation Activities. The Georgia Program was found satisfactory, but it needs improvement, for three performance indicators: Technical Staffing and Training, Status of Materials Inspection Program, and Technical Quality of Licensing Actions. The indicators, Compatibility Requirements and Sealed Source and Device Evaluation were found satisfactory. The MRB recommended that the Georgia Program be placed on Probation due to the significant performance issues identified. The Commission agreed that the Georgia Program should be placed on Probation.

The Georgia Agreement State Program's progress in addressing the program weaknesses will be evaluated in January 2014 by an IMPEP review team. Once the MRB determines that the Agreement State has met the commitments in the “Program Improvement Plan” and has demonstrated significant and sustainable improvements in program performance, a recommendation will be made to the Commission that the probationary status be lifted.

Notification of discontinuance of Probation would be made to the Governor of Georgia, the Georgia Congressional delegation, and all other Agreement and Non-Agreement States. The NRC would also publish a Federal Register notice and a press release announcing the discontinuance of Probation for the Georgia Program, if approved by the Commission.

Dated at Rockville, Maryland, this 2nd day of August, 2013.
For the Nuclear Regulatory Commission.
Mark A. Satorius,
Director, Office of Federal and State Materials and Environmental Management Programs.

[FR Doc. 2013-19306 Filed 8-8-13; 8:45 am]

BILLING CODE 7590-01-P